ENVIRONMENTAL PROTECTION AGENCY

[OEI-2004-0004, FRL-7823-4]

Agency Information Collection Activities: Proposed Collection; Comment Request; Information Collection Request Update for the 40 CFR Part 64 Compliance Assurance Monitoring Program, EPA ICR Number 1663.03, OMB Control Number 2060-0376

AGENCY: Environmental Protection Agency.

ACTION: Notice.

SUMMARY: In compliance with the Paperwork Reduction Act (44 U.S.C. 3501 et seq.), this document announces that EPA is planning to submit a continuing Information Collection Request (ICR) to the Office of Management and Budget (OMB). This is a request to renew an existing collection. This ICR is scheduled to expire on November 30, 2004. Before submitting the ICR to OMB for review and approval, EPA is soliciting comments on specific aspects of the proposed information collection as described below.

DATES: Comments must be submitted on or before December 6, 2004.

ADDRESSES: Submit your comments, referencing docket ID number OEI-2004-0004, to EPA online using EDOCKET (our preferred method), by e-mail: A-and-R-Docket@epamail.epa.gov, or by mail to: U.S. Environmental Protection Agency, EPA Docket Center (EPA/DC), Air and Radiation Docket and Information Center, MC 6102T, 1200 Pennsylvania Avenue, NW., Washington, DC 20460, A-and-R-Docket@epamail.epa.gov.

FOR FURTHER INFORMATION CONTACT: Peter R. Westlin, Environmental Protection Agency, Office of Air Quality Planning and Standards (mail code D243-02), Research Triangle Park, North Carolina 27711; telephone number: (919) 541-1058; fax number: (919) 541-1039; e-mail address: westlin.peter@epa.gov.

SUPPLEMENTARY INFORMATION: EPA has established a public docket for this ICR under Docket ID number OEI-2004-0004, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

You should submit any comments related to this ICR to EPA within 60 days of this notice. EPA's policy is the Agency will make available public comments, whether submitted electronically or in paper, for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket and will not be available for public viewing in EDOCKET. For further information about the electronic docket, see EPA's Federal Register notice describing the electronic docket at 67 FR 38102 (May 31, 2002), or go to http://www.epa.gov./edocket.

Affected entities: Entities potentially affected by this action are owners and operators of major sources as defined by any title of the Clean Air Act and required to apply for and obtain an operating permit under title V of the Clean Air Act as amended by the Clean Air Act Amendments of 1990 (the Act).

Title: Information Collection Request Update for the 40 CFR Part 64 Compliance Assurance Monitoring Program, OMB control number 2060-0376, ICR number 1663.02, expiring November 30, 2004.

Abstract: The Act contains several provisions directing us to require source owners to conduct monitoring to support certification as to their status of compliance with applicable requirements. These provisions are set forth title V (operating permits provisions) and title VII (enforcement provisions) of the Act. Title V directs us to implement monitoring and certification requirements through the operating permits program. Section 504(b) of the Act allows us to prescribe by rule methods and procedures for determining compliance recognizing that continuous emissions monitoring systems need not be required if other procedures or methods provide sufficiently reliable and timely information for determining compliance. Under section 504(c), each operating permit must “set forth inspection, entry, monitoring, compliance, certification, and reporting requirements to assure compliance with the permit terms and conditions.” Section 114(a)(3) requires us to promulgate rules for enhanced monitoring and compliance certifications. Section 114(a)(1) of the Act provides additional authority concerning monitoring, reporting, and record keeping requirements. This section provides the Administrator with the authority to require any owner or operator of a source to install and operate monitoring systems and to record the resulting monitoring data. We promulgated the Compliance Assurance Monitoring rule, part 64, on October 22, 1997 (62 FR 54900) to implement these authorities.

In accordance with these provisions, the monitoring information source owners must submit must also be available to the public, except as entitled top protection from disclosure as allowed in section 114(c) of the Act. An agency may not conduct or sponsor, and a person is not required to respond to, a collection of information unless it displays a currently valid OMB control number. The OMB control numbers for EPA's regulations in 40 CFR are listed in 40 CFR part 9.

We are soliciting comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Based on the Agency's knowledge of the number of title V permits issued since 1997 and the implementation of part 64 through permit renewals, the expected impact of the 40 CFR part 64 Compliance Assurance Monitoring (CAM) Program for the 3 years from October 1, 2004 until September 30, 2007 is 52,000 hours. The CAM rule will incur an average annual cost of $2.5 million in 2004 dollars. This includes an annualized capital and operation and maintenance cost of $70,000.

The CAM program burden for source owners or operators means the total time, effort, or financial resources expended by persons to generate, maintain, retain, or disclose or provide monitoring information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. We have also included annualized capital and operational and maintenance costs for monitoring programs in the cost burden calculation. The CAM program over the years 2004 through 2007 potentially affects 240 large pollutant-specific emissions units plus 2440 other pollutant-specific emissions units nationwide. The annual burden for source owners or operators is 5,550 hours for large pollutant-specific emissions units and 46,650 hours for other pollutant-specific emissions units.

During the period, permitting authorities will review CAM submittals from source owners or operators whose permits have already been issued and are renewing those permits as the 5-year permit terms expire. Permitting authorities will also be interacting with the source owners or operators in addressing the CAM in semi-annual monitoring reports and reporting CAM data as necessary. We estimate the annual CAM burden to permitting authorities to be 21,500 hours and about $1.5 million. Burden means the total time, effort, or financial resources expended by persons to generate, maintain, retain, or disclose or provide information to or for a Federal agency.

Dated: September 22, 2004.
William Lamason,
Acting Director, Emissions Monitoring and Analysis Division.

[FR Doc. 04-22361 Filed 10-4-04; 8:45 am]

BILLING CODE 6560-50-P